DEPARTMENT OF COMMERCE

International Trade Administration

[A-533-810]

Stainless Steel Bar From India; Extension of Time Limit for the Preliminary Results of the Antidumping Duty Administrative Review

AGENCY: Import Administration, International Trade Administration, Department of Commerce.

ACTION: Notice of extension of time limit.

SUMMARY: The Department of Commerce is extending the time limit for the preliminary results of the administrative review of the antidumping duty order on stainless steel bar from India. The period of review is February 1, 2003, through January 31, 2004. This extension is made pursuant to section 751(a)(3)(A) of the Tariff Act of 1930, as amended by the Act.

DATES: Effective September 24, 2004.

FOR FURTHER INFORMATION CONTACT: Cole Kyle or Melanie Brown, Office 1, Import Administration, International Trade Administration, U.S. Department of Commerce, 14th Street and Constitution Avenue, NW., Washington, DC 20230; telephone (202) 482-1503 and 482-4987, respectively.

Background

On March 26, 2004, the Department of Commerce (“Department”) published a notice of initiation of administrative review of the antidumping duty order on stainless steel bar from India covering the period February 1, 2003, through January 31, 2004 (69 FR 15788). The preliminary results for the antidumping duty administrative review of stainless steel bar from India are currently due no later than October 31, 2004.

Extension of Time Limits for Preliminary Results

Section 751(a)(3)(A) of the Act requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

Due to the complexity of choosing the appropriate third-country market selection, determining the accuracy of reported home market sales, and the late filing of cost allegations made by the petitioners, it is not practicable to complete the preliminary results of this review within the original time limit (i.e., October 31, 2004). Therefore, the Department is extending the time limit for completion of the preliminary results to no later than February 28, 2005, in accordance with section 751(a)(3)(A) of the Act.

We are issuing and publishing this notice in accordance with sections 751(a)(1) and 777(i)(1) of the Act.

Dated: September 17, 2004.
Jeffrey A. May,
Deputy Assistant Secretary for AD/CVD Enforcement.

[FR Doc. E4-2359 Filed 9-23-04; 8:45 am]

BILLING CODE 3510-DS-P